DEPARTMENT OF ENERGY

Federal Energy Regulatory Commission

[Docket No. EG02-183-000, et al.]

Spring Canyon Energy, L.L.C., et al.; Electric Rate and Corporate Regulation Filings

September 13, 2002.

The following filings have been made with the Commission. The filings are listed in ascending order within each docket classification.

1. Spring Canyon Energy, L.L.C.

[Docket No. EG02-183-000]

On September 10, 2002, Spring Canyon Energy, L.L.C. (the Applicant) whose address is 10440 N. Central Expressway, No. 1400, Dallas, Texas 75231, filed with the Federal Energy Regulatory Commission an application for determination of exempt wholesale generator status pursuant to part 365 of the Commission's regulations.

The Applicant states that it will be engaged directly or indirectly and exclusively in the business of owning and/or operating a 430 MW (up to 540 MW with duct burners) electric generating facility located near Mona, Utah and selling electric energy at wholesale. The Applicant requests a determination that the Applicant is an exempt wholesale generator under Section 32(a)(1) of the Public Utility Holding Company Act of 1935.

Comment Date: October 4, 2002.

2. City of Corona v. Southern California Edison Company

[Docket No. EL02-126-000]

Take notice that on September 11, 2002, the City of Corona, California (Corona) tendered for filing a Complaint and Request for Fast Track Processing, pursuant to section 206 of the Rules and Practice and Procedure of the Federal Energy Regulatory Commission, against Southern California Edison (SCE) alleging violations of Sections 202, 210, and 212 of the Federal Power Act and the Commission's regulations implementing such sections.

Corona requests an order directing SCE to promptly process Corona's Wholesale Distribution Access Tariff application and interconnect Corona as requested in the application filed with SCE on December 20, 2001, as well as an order to show cause directed against SCE as to why it should not be found in violation of the Federal Power Act, SCE's own tariffs, and the Commission's regulations for the actions described in the Complaint. A copy of the filing was served upon the Parties.

Comment Date: October 3, 2002.

3. Avista Energy, Inc.

[Docket No. ER96-2408-018]

Take notice that on September 9, 2002, Avista Energy, Inc. filed with the Federal Energy Regulatory Commission its three-year updated market analysis. Avista Energy, Inc., an indirect, wholly-owned subsidiary of Avista Corporation, is an electricity and natural gas trading and marketing company headquartered in Spokane, Washington.

Copies of this filing have been served upon parties on the Commission's official service list for this docket.

Comment Date: September 30, 2002.

4. Foote Creek II and Foote Creek III

[Docket Nos. ER99-3450-002 and ER99-2769-003]

Take notice that on September 9, 2002, Foote Creek II and Foote Creek III., filed with the Federal Energy Regulatory Commission (Commission) their three-year updated market analysis. Foote Creek II and III has had no changes in ownership, generation capacity, transmission or market-based rates for this project.

Foote Creek III has changed the name of the utility purchasing the power the project produces from Public Service Company of Colorado to ExCel Energy.

Comment Date: September 30, 2002.

5. New York Independent System Operator, Inc.

[Docket Nos. ER00-3591-012, ER00-1969-014, ER00-3038-007, EL00-70-008, ER02-2081-001]

Take notice that on September 9, 2002, the New York Independent System Operator, Inc. (NYISO) tendered for filing a compliance filing in accordance with the Commission's August 9, 2002 order in the above-captioned proceedings.

A copy of this filing was served upon all signatories to the OATT and Services Tariff and upon all persons designated on the official service lists compiled by the Secretary in the above-captioned proceedings.

Comment Date: September 30, 2002.

6. California Power Exchange Corporation

[Docket No. ER02-2234-003]

Take notice that on September 9, 2002, the California Power Exchange Corporation made a filing to comply with the Commission's August 8, 2002 order in this proceeding (100 FERC ¶ 61,178).

Comment Date: September 30, 2002.

7. PPL Electric Utilities Corporation

[Docket No. ER02-2419-000]

Take notice that on September 4, 2002, PPL Electric Utilities Corporation (PPL) submitted as a supplement to its initial filing in the captioned proceeding a one-line diagram of the interconnection facilities governed by the generator interconnection agreement between PPL and Bloomsburg Hospital.

Comment Date: September 25, 2002.

8. California Independent System Operator Corporation

[Docket No. ER02-2487-001]

Take notice that on September 10, 2002, the California Independent System Operator Corporation (ISO) tendered for filing Errata to the First Revised Service Agreement No. 381 Under ISO Rate Schedule No. 1, which is a Participating Generator Agreement (PGA) between the ISO and Metropolitan Water District of Southern California (MWD). The Errata corrects the requested effective date of the First Revised Service Agreement No. 381. The ISO filed First Revised Service Agreement No. 381on August 22, 2002 to update Schedule 1 of the PGA. The ISO requests that the revised PGA be made effective as of August 22, 2002.

The ISO states that this filing has been served on all entities that are on the official service list for Docket No. ER02-2487-000.

Comment Date: October 1, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-23859 Filed 9-19-02; 8:45 am]

BILLING CODE 6717-01-P